DEPARTMENT OF TRANSPORTATION

Federal Aviation Administration

[Summary Notice No. PE-2009-61]

Petition for Exemption; Summary of Petition Received

Correction

In notice document 2010-808 beginning on page 2925 in the issue of Tuesday, January 19, 2010, make the following correction:

On page 2925, in the third column, under the DATE: heading, “August 10, 2010” is corrected to read “February 8, 2010”.

[FR Doc. C1-2010-808 Filed 1-28-08; 8:45 am]

BILLING CODE 1505-01-D